NUCLEAR REGULATORY COMMISSION

[NRC-2010-0278]

NUREG-1482, Revision 2, “Guidelines for Inservice Testing at Nuclear Power Plants, Final Report”

AGENCY: Nuclear Regulatory Commission.

ACTION: Notice of issuance; availability.

SUMMARY: The U.S. Nuclear Regulatory Commission (NRC) has issued a final report entitled: NUREG-1482, Revision 2, “Guidelines for Inservice Testing at Nuclear Power Plants,” and subtitled “Inservice Testing of Pumps and Valves, and Inservice Examination and Testing of Dynamic Restraints (Snubbers) at Nuclear Power Plants.” In the previous Revisions 0 and 1 of NUREG-1482, the NRC staff provides licensees guidelines and recommendations for developing and implementing programs for the inservice testing of pumps and valves at commercial nuclear power plants. In Revision 2 of NUREG-1482, the NRC staff also includes guidelines and recommendations for developing and implementing programs for the inservice examination and testing of dynamic restraints (snubbers).

ADDRESSES: Please refer to Docket ID NRC-2010-0278 when contacting the NRC about the availability of information regarding this document. You may access publicly-available information related to this action by the following methods:

• Federal Rulemaking Web site: Go to http://www.regulations.gov and search for Docket ID NRC-2010-0278. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The NUREG-1482, Revision 2, “Guidelines for Inservice Testing at Nuclear Power Plants, Final Report,” and subtitled “Inservice Testing of Pumps and Valves, and Inservice Examination and Testing of Dynamic Restraints (Snubbers) at Nuclear Power Plants,” is available in ADAMS under Accession No. ML13295A020. The draft NUREG-1482, Revision 2 was published in the Federal Register for public comments on August 22, 2011 (76 FR 52355) and is available in ADAMS under Accession No. ML112231412. This document is a revision to the previously issued NUREG-1482, Revision 1 (ADAMS Accession No. ML050550290).

• NRC's PDR: You may examine and purchase copies of public documents at the NRC's PDR, Room O1-F21, One White Flint North, 11555 Rockville Pike, Rockville, Maryland 20852.

FOR FURTHER INFORMATION CONTACT: Gurjendra S. Bedi, Office of Nuclear Reactor Regulation, U.S. Nuclear Regulatory Commission, Washington, DC 20555-0001; telephone: 301-415-1393, email: Gurjendra.Bedi@nrc.gov.

SUPPLEMENTARY INFORMATION: NUREG-1482, Revision 2, “Guidelines for Inservice Testing at Nuclear Power Plants, Final Report” provides updated information on applicable regulations for testing of pumps and valves, and inservice examination and testing of snubbers. The information in NUREG-1482, “Guidelines for Inservice Testing at Nuclear Plants,” Revision 0, issued April 1995, and Revision 1, issued January 2005, has described these topics in the past.

This NUREG report replaces Revision 0 and Revision 1 of NUREG-1482, and is applicable, unless stated otherwise, to all editions and addenda of the American Society of Mechanical Engineers Code for Operation and Maintenance of Nuclear Power Plants (OM Code), which section 50.55a(b) of Title 10 of the Code of Federal Regulations (10 CFR) incorporates by reference (76 FR 36232-36279), dated July 21, 2011. This NUREG-1482, Revision 2 incorporates all the public comments received for the draft NUREG-1482, Revision 2. Based on public comments, all the structure and sections of NUREG-1482, Revision 1 are maintained and revised and updated. The main sections of the NUREG-1482, Revision 2 are for the IST of pumps and valves, similar to the NUREG-1482, Revision 1. An independent Appendix A, for inservice examination and testing of dynamic restraints (snubbers) is added for the first time in NUREG-1482, Revision 2. The NRC staff evaluation and resolution of public comments for draft NUREG-1482, Revision 2 are documented in ADAMS under Accession No. ML13161A382. Most of the draft NUREG-1482, Revision 2, pump and valve IST guidance provided in the Appendix A, are now in the main text of NUREG-1482, Revision 2. Appendix B to the draft NUREG-1482, Revision 2, guidance for inservice examination and testing for dynamic restraints (snubbers) is in the Appendix A of the NUREG-1482, Revision 2.

The guidelines and recommendations provided in this NUREG and its Appendix A do not supersede the regulatory requirements specified in 10 CFR 50.55a. Further, this NUREG does not authorize the use of alternatives to, or grant relief from, the ASME Code requirements for inservice testing of pumps and valves, or inservice examination and testing of dynamic restraints (snubbers), incorporated by reference in 10 CFR 50.55a. In addition, the NUREG discusses other inservice test program topics such as the NRC process for review of the OM Code, conditions on the use of the OM Code, and interpretations of the OM Code.

Dated at Rockville, Maryland, this 22nd day of October 2013.
For the Nuclear Regulatory Commission.
Timothy R. Lupold,
Chief, Component Performance, NDE and Testing Branch, Division of Engineering, Office of Nuclear Reactor Regulation.

[FR Doc. 2013-28701 Filed 11-27-13; 8:45 am]

BILLING CODE 7590-01-P